DEPARTMENT OF ENERGY

Federal Energy Regulatory Commission

[Project No. 13702-001]

FFP Missouri 2, LLC; Notice of Intent To File License Application, Filing of Pre-Application Document, and Approving Use of the Traditional Licensing Process

a. Type of Filing: Notice of Intent to File License Application and Request to Use the Traditional Licensing Process.

b. Project No.: 13702-001.

c. Date Filed: January 31, 2012.

d. Submitted By: FFP Missouri 2, LLC.

e. Name of Project: Grenada Lake Hydroelectric Project.

f. Location: On the Yalobusha River in Grenada County, Mississippi. The proposed project would occupy United States lands administered by the U.S. Army Corps of Engineers.

g. Filed Pursuant to: 18 CFR 5.3 of the Commission's regulations

h. Potential Applicant Contact: Ramya Swaminathan, FFP Missouri 2, LLC, 239 Causeway Street, Suite 300, Boston, MA 02114; (978) 283-2822; or email at rswaminathan@free-flow-power.com.

i. FERC Contact: Patti Leppert at (202) 502-6034; or email at patricia.leppert@ferc.gov.

j. FFP Missouri 2, LLC filed its request to use the Traditional Licensing Process on January 31, 2012. FFP Missouri 2, LLC provided public notice of its request on January 17, January 20, and January 24, 2012. By letter dated March 27, 2012, the Acting Director of the Division of Hydropower Licensing approved FFP Missouri 2, LLC's request to use the Traditional Licensing Process.

k. With this notice, we are initiating informal consultation with: (1) The U.S. Fish and Wildlife Service and/or the National Marine Fisheries Service (NMFS) under section 7 of the Endangered Species Act and the joint agency regulations thereunder at 50 CFR, Part 402; (2) NMFS under section 305(b) of the Magnuson-Stevens Fishery Conservation and Management Act and implementing regulations at 50 CFR section 600.920; and (3) the Mississippi State Historic Preservation Officer, as required by section 106, National Historical Preservation Act, and the implementing regulations of the Advisory Council on Historic Preservation at 36 CFR 800.2.

l. With this notice, we are designating FFP Missouri 2, LLC as the Commission's non-federal representative for carrying out informal consultation, pursuant to section 7 of the Endangered Species Act, section 305 of the Magnuson-Stevens Fishery Conservation and Management Act, and section 106 of the National Historic Preservation Act.

m. FFP Missouri 2, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, or toll free at 1-866-208-3676, or for TTY, (202) 502-8659. A copy is also available for inspection and reproduction at the address in paragraph h.

o. Register online at http://www.ferc.gov/docs-filing/esubscription.asp to be notified via email of new filings and issuances related to this or other pending projects. For assistance, contact FERC Online Support.

Dated: March 29, 2012.
Kimberly D. Bose,
Secretary.

[FR Doc. 2012-8153 Filed 4-4-12; 8:45 am]

BILLING CODE 6717-01-P